DEPARTMENT OF TRANSPORTATION

Federal Motor Carrier Safety Administration

[Docket No. FMCSA-2015-0070]

Qualification of Drivers; Exemption Applications; Vision

AGENCY: Federal Motor Carrier Safety Administration (FMCSA), DOT.

ACTION: Notice of applications for exemptions; request for comments.

SUMMARY: FMCSA announces receipt of applications from 36 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 2, 2015. All comments will be investigated by FMCSA. The exemptions will be issued the day after the comment period closes.

ADDRESSES: You may submit comments bearing the Federal Docket Management System (FDMS) Docket No. FMCSA-2015-0070 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 36 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Raymond H. Annis

Mr. Annis, 72, has had pseudophakia and macular degeneration in his right eye since 2013. The visual acuity in his right eye is 20/70, and in his left eye, 20/40. Following an examination in 2015, his ophthalmologist stated, “The above mentioned are the results of his testing, Given these results, it is my medical opinion that he has sufficient vision to perform the driving tasks required to operate a commercial vehicle.” Mr. Annis reported that he has driven straight trucks for 2 years, accumulating 30,000 miles, and tractor-trailer combinations for 29 years, accumulating 3.48 million miles. He holds a Class A CDL from California. His driving record for the last 3 years shows no crashes and no convictions for moving violations in a CMV.

Joseph A. Basista

Mr. Basista, 51, has had amblyopia in his right eye since birth. The visual acuity in his right eye is 20/50, and in his left eye, 20/20. Following an examination in 2015, his optometrist stated, “In my opinion, Mr. Basista has sufficient vision to perform driving tasks required to operate a commercial vehicle.” Mr. Basista reported that he has driven straight trucks for 26 years, accumulating 130,000 miles. He holds an operator's license from Pennsylvania. His driving record for the last 3 years shows no crashes and no convictions for moving violations in a CMV.

James T. Bauer

Mr. Bauer, 76, has had a retinal vein occlusion in his left eye since 1994. The visual acuity in his right eye is 20/20, and in his left eye, 20/100. Following an examination in 2015, his optometrist stated, “In my medical opinion, Mr. Bauer has sufficient vision to perform the driving tasks required to operate a commercial vehicle.” Mr. Bauer reported that he has driven straight trucks for 37 years, accumulating 444,000 miles. He holds a Class BM CDL from Pennsylvania. His driving record for the last 3 years shows no crashes and no convictions for moving violations in a CMV.

Duane W. Brzuchalski

Mr. Brzuchalski, 55, has had a chronic retinal detachment in his left eye since childhood. The visual acuity in his right eye is 20/20, and in his left eye, no light perception. Following an examination in 2015, his optometrist stated, “It is my medical opinion that Duane Brzuchalski has sufficient vision and visual ability to safely operate a commercial vehicle.” Mr. Brzuchalski reported that he has driven straight trucks for 10 years, accumulating 450,000 miles, and tractor-trailer combinations for 24 years, accumulating 1.68 million miles. He holds a Class A CDL from Arizona. His driving record for the last 3 years shows no crashes and no convictions for moving violations in a CMV.

John D. Burns Jr.

Mr. Burns, 51, has had amblyopia in his left eye since birth. The visual acuity in his right eye is 20/30, and in his left eye, counting fingers. Following an examination in 2015, his ophthalmologist stated, “He has sufficient vision to perform the driving tasks required to operate a commercial vehicle.” Mr. Burns reported that he has driven straight trucks for 30 years, accumulating 660,000 miles. He holds an operator's license from New York. His driving record for the last 3 years shows no crashes and no convictions for moving violations in a CMV.

Stephen J. Calandrino

Mr. Calandrino, 59, has had strabismic amblyopia in his right eye since childhood. The visual acuity in his right eye is 20/100, and in his left eye, 20/25. Following an examination in 2015, his optometrist stated, “He undoubtedly has sufficient vision to perform the driving tasks needed to operate a commercial vehicle.” Mr. Calandrino reported that he has driven straight trucks for 20 years, accumulating 300,000 miles. He holds an operator's license from Pennsylvania. His driving record for the last 3 years shows no crashes and no convictions for moving violations in a CMV.

Randall S. Canedy

Mr. Canedy, 63, has had amblyopia in his right eye since childhood. The visual acuity in his right eye is 20/50, and in his left eye, 20/20. Following an examination in 2015, his optometrist stated, “In my opinion when wearing his glasses Mr. Canedy has sufficient vision to perform the driving tasks required to operate a commercial vehicle.” Mr. Canedy reported that he has driven tractor-trailer combinations for 31 years, accumulating 1.4 million miles. He holds a Class A CDL from Pennsylvania. His driving record for the last 3 years shows no crashes and no convictions for moving violations in a CMV.

Rufus A. Dennis

Mr. Dennis, 68, has complete loss of vision in his left eye due to a traumatic incident at birth. The visual acuity in his right eye is 20/25, and in his left eye, no light perception. Following an examination in 2015, his optometrist stated, “External examination of Mr. Dennis' left eye revealed that the cornea in his left eye is opacified, his pupil is irregular, miotic, and displaced infero-nasally . . . Mr. Dennis stated that he has had a commercial drivers [sic] license for at least 30-35 years with this condition. I see no reason why he shouldn't be granted his health card at the present time.” Mr. Dennis reported that he has driven straight trucks for 15 years, accumulating 480,000 miles. He holds a Class A CDL from Tennessee. His driving record for the last 3 years shows no crashes and no convictions for moving violations in a CMV.

David Diamond

Mr. Diamond, 44, has had refractive amblyopia in his right eye since birth. The visual acuity in his right eye is 20/150, and in his left eye, 20/20. Following an examination in 2014, his optometrist stated, “In my opinion, David has sufficient vision to perform driving tasks required to operate a commercial vehicle.”

Mr. Diamond reported that he has driven straight trucks for 22 years, accumulating 77,000 miles. He holds a Class B CDL from Illinois. His driving record for the last 3 years shows no crashes and no convictions for moving violations in a CMV.

David D. Frey

Mr. Frey, 71, has had amblyopia in his right eye since childhood. The visual acuity in his right eye is 20/50, and in his left eye, 20/20. Following an examination in 2014, his optometrist stated, “In my opinion, this patient has sufficient vision to operate a commercial vehicle.” Mr. Frey reported that he has driven straight trucks for 25 years, accumulating 1 million miles. He holds an operator's license from Florida. His driving record for the last 3 years shows no crashes and no convictions for moving violations in a CMV.

Jason T. Glaude

Mr. Glaude, 41, has had a partial coloboma of optic nerve in his left eye since birth. The visual acuity in his right eye is 20/15, and in his left eye, 20/50. Following an examination in 2015, his optometrist stated, “Jason certainly satisfies the requirements to legally drive and operate a commercial vehicle and his reduced acuity in the left eye is stable and poses no risks.” Mr. Glaude reported that he has driven straight trucks for 15 years, accumulating 750,000 miles. He holds a Class B CDL from Maine. His driving record for the last 3 years shows no crashes and no convictions for moving violations in a CMV.

Patrick Griffin

Mr. Griffin, 39, has had amblyopia in his right eye since childhood. The visual acuity in his right eye is hand motion, and in his left eye, 20/20. Following an examination in 2015, his optometrist stated, “In my opinion he does have good enough vision, visual fields, and visual sensory functioning to safely operate a commercial vehicle.” Mr. Griffin reported that he has driven straight trucks for 18 years, accumulating 1.7 million miles. He holds an operator's license from Oklahoma. His driving record for the last 3 years shows no crashes and no convictions for moving violations in a CMV.

Roger J. Hansen

Mr. Hansen, 60, has had a branch retinal artery occlusion in his left eye since 2005. The visual acuity in his right eye is 20/25, and in his left eye, 20/150. Following an examination in 2015, his ophthalmologist stated, “In the doctor's medical opinion, Mr. Hansen has perfect vision and visual function in his right eye to drive safely and he has been driving safely in the past 10 years with some deficit in his left eye . . . If he has been granted to operate commercial vehicles in the past, I do not see a reason to not grant him to do so now.” Mr. Hansen reported that he has driven straight trucks for 14 years, accumulating 1.19 million miles. He holds an operator's license from Wisconsin. His driving record for the last 3 years shows one crash, to which he did not contribute and for which he was not cited, and one conviction for a moving violation in a CMV; he exceeded the speed limit by 11 mph.

Elvin M. Hursh

Mr. Hursh, 71, has had a prosthetic right eye since 1995. The visual acuity in his right eye is no light perception, and in his left eye, 20/20. Following an examination in 2015, his optometrist stated, “In my opinion, Mr. Hursh has the acuity, visual field, and color vision to perform the driving tasks required to operate a commercial vehicle.” Mr. Hursh reported that he has driven straight trucks for 9 years, accumulating 27,000 miles. He holds a Class B CDL from Pennsylvania. His driving record for the last 3 years shows no crashes and no convictions for moving violations in a CMV.

Tommy R. Jefferies

Mr. Jefferies, 48, has had refractive amblyopia in his left eye since birth. The visual acuity in his right eye is 20/20, and in his left eye, 20/200. Following an examination in 2015, his optometrist stated, “In my medical opinion, Mr. Jefferies has sufficient vision to perform the driving tasks required to operate a commercial vehicle.” Mr. Jefferies reported that he has driven straight trucks for 19 years, accumulating 741,000 miles. He holds a Class E CDL from Florida. His driving record for the last 3 years shows no crashes and no convictions for moving violations in a CMV.

Jeffrey A. Keefer

Mr. Keefer, 53, has a corneal scar in his right eye due to a traumatic incident in childhood. The visual acuity in his right eye is counting fingers, and in his left eye, 20/15. Following an examination in 2015, his optometrist stated, “In my medical opinion, Mr. Keefer has sufficient vision to perform the driving tasks associated with driving a commercial vehicle.” Mr. Keefer reported that he has driven straight trucks for 36 years, accumulating 162,000 miles, and tractor-trailer combinations for 30 years, accumulating 99,000 miles. He holds a Class D CDL from Ohio. His driving record for the last 3 years shows no crashes and no convictions for moving violations in a CMV.

Dale R. Knuppel

Mr. Knuppel, 60, has had macular edema in his right eye since 2004. The visual acuity in his right eye is 20/150, and in his left eye, 20/30. Following an examination in 2015, his optometrist stated, “I hereby certify that in my medical opinion, the applicant has sufficient vision to perform the driving tasks required to safely operate a commercial motor vehicle (CMV).” Mr. Knuppel reported that he has driven tractor-trailer combinations for 39 years, accumulating 1.76 million miles. He holds a Class A CDL from Colorado. His driving record for the last 3 years shows no crashes and one conviction for a moving violation in a CMV; he exceeded the speed limit by 14 mph.

James J. Kopesky

Mr. Kopesky, 58, has had amblyopia in his left eye since childhood. The visual acuity in his right eye is 20/20, and in his left eye, no light perception. Following an examination in 2015, his optometrist stated, “I certify that in my professional opinion, Mr. James Kopesky has sufficient vision to perfom [sic] the driving tasks required to operate a commercial vehicle.” Mr. Kopesky reported that he has driven straight trucks for 25 years, accumulating 1.875 million miles. He holds an operator's license from Wisconsin. His driving record for the last 3 years shows no crashes and no convictions for moving violations in a CMV.

Richard W. Korthanke

Mr. Korthanke, 61, has had a retinal detachment in his right eye since 2013. The visual acuity in his right eye is 20/200, and in his left eye, 20/20. Following an examination in 2015, his optometrist stated, “Richard has sufficient vision to perform the driving tasks required to operate a commercial vehicle.” Mr. Korthanke reported that he has driven straight trucks for 14 years, accumulating 42,000 miles, and tractor-trailer combinations for 14 years, accumulating 70,000 miles. He holds a Class A CDL from Kansas. His driving record for the last 3 years shows no crashes and no convictions for moving violations in a CMV.

William E. Leimkuehler

Mr. Leimkuehler, 63, has had refractive amblyopia in his left eye since childhood. The visual acuity in his right eye is 20/20, and in his left eye, 20/1250. Following an examination in 2015, his optometrist stated, “His vision is clear and sufficient to perform the driving tasks required to operate a commercial vehicle.” Mr. Leimkuehler reported that he has driven straight trucks for 28 years, accumulating 1.4 million miles, and tractor-trailer combinations for 14 years, accumulating 980,000 miles. He holds a Class AM1 CDL from California. His driving record for the last 3 years shows one crash, to which he contributed to by unsafe starting, and no convictions for moving violations in a CMV.

Michael R. Letson

Mr. Letson, 54, has had complete loss of vision in his right eye since birth. The visual acuity in his right eye is no light perception, and in his left eye, 20/15. Following an examination in 2015, his ophthalmologist stated, “He has 130 degrees of vision in the left eye, and it is my opinion that Mr. Letson has sufficient vision to perform the driving tasks required to operate a commercial vehicle.” Mr. Letson reported that he has driven straight trucks for 4 years, accumulating 96,000 miles. He holds an operator's license from Michigan. His driving record for the last 3 years shows no crashes and no convictions for moving violations in a CMV.

Jose A. Marco

Mr. Marco, 50, has had amblyopia secondary to a mild corneal leukoma in his right eye since childhood. The visual acuity in his right eye is 20/60, and in his left eye, 20/20. Following an examination in 2015, his ophthalmologist stated, “He does have amblyopia in his right eye which accounts for the visual loss secondary to a mild corneal leukoma . . . This suggests he should not be denied a commercial driver's license with the appropriate considerations listed above.” Mr. Marco reported that he has driven straight trucks for 29 years, accumulating 1.51 million miles, tractor-trailer combinations for 29 years, accumulating 1.51 million miles, and buses for 15 years, accumulating 150,000 miles. He holds a Class A CDL from Texas. His driving record for the last 3 years shows no crashes and no convictions for moving violations in a CMV.

Cole W. McLaughlin

Mr. McLaughlin, 27, has complications due to fibrovascular ingrowth in his left eye due to a traumatic incident in 2011. The visual acuity in his right eye is 20/20, and in his left eye, light perception. Following an examination in 2015, his ophthalmologist stated, “In my opinion, I do believe he has sufficient vision to perform the driving tasks required to operate a commercial vehicle.” Mr. McLaughlin reported that he has driven straight trucks for 5 years, accumulating 1,250 miles, tractor-trailer combinations for 5 years, accumulating 40,000 miles, and buses for 5 years, accumulating 500 miles. He holds a Class A CDL from South Dakota. His driving record for the last 3 years shows no crashes and no convictions for moving violations in a CMV.

Javier R. Morales

Mr. Morales, 48, has had a macular scar in his right eye since 2000. The visual acuity in his right eye is 20/100, and in his left eye, 20/20. Following an examination in 2015, his ophthalmologist stated, “In my opinion he has sufficient vision to preform driving tasks required to operate a commercial vehicle.” Mr. Morales reported that he has driven straight trucks for 23 years, accumulating 460,000 miles. He holds a Class B CDL from California. His driving record for the last 3 years shows no crashes and no convictions for moving violations in a CMV.

Clarence L. Ogle

Mr. Ogle, 63, has had refractive amblyopia in his right eye since birth. The visual acuity in his right eye is 20/300, and in his left eye, 20/25. Following an examination in 2015, his optometrist stated, “It is my opinion that refractive amblyopia for Mr. Ogle does not affect his ability to drive. I think he can perform the task of operating a commercial vehicle without restriction.” Mr. Ogle reported that he has driven straight trucks for 45 years, accumulating 562,500 miles, and tractor-trailer combinations for 18 years, accumulating 1.26 million miles. He holds a Class A CDL from South Dakota. His driving record for the last 3 years shows no crashes and no convictions for moving violations in a CMV.

Roy A. Quesada

Mr. Quesada, 43, has had amblyopia in his right eye since childhood. The visual acuity in his right eye is 20/400, and in his left eye, 20/20. Following an examination in 2015, his ophthalmologist stated, “Based on these findings and in my experience as a physician, he has sufficient vision to operate a commercial vehicle.” Mr. Quesada reported that he has driven straight trucks for 21 years, accumulating 210,000 miles, and tractor-trailer combinations for 21 years, accumulating 210,000 miles. He holds a Class A CDL from Pennsylvania. His driving record for the last 3 years shows no crashes and no convictions for moving violations in a CMV.

Rafael Quintero

Mr. Quintero, 51, has had complete loss of vision in his right eye due to a traumatic incident in childhood. The visual acuity in his right eye is no light perception, and in his left eye, 20/20. Following an examination in 2015, his optometrist stated, “He does perceive light and balance through the eye and is capable of a binocular field and should perform adequately as a truck driver.” Mr. Quintero reported that he has driven straight trucks for 3 years, accumulating 15,000 miles, and tractor-trailer combinations for 18 years, accumulating 2.25 million miles. He holds a Class A CDL from Texas. His driving record for the last 3 years shows no crashes and one conviction for a moving violation in a CMV; he exceeded the speed limit by 10 percent or more.

Clark M. Robinson

Mr. Robinson, 63, has had macular degeneration in his left eye since 2010. The visual acuity in his right eye is 20/25, and in his left eye, hand motion. Following an examination in 2015, his optometrist stated, “It is my opinion at this time, that Mr. Robinson has sufficient vision to perform the driving tasks required to operate a commercial vehicle.” Mr. Robinson reported that he has driven straight trucks for 40 years, accumulating 1.2 million miles, and tractor-trailer combinations for 40 years, accumulating 2 million miles. He holds an operator's license from South Carolina. His driving record for the last 3 years shows no crashes and no convictions for moving violations in a CMV.

Donald L. Schoendienst

Mr. Schoendienst, 61, has had amblyopia in his right eye since childhood. The visual acuity in his right eye is 20/70, and in his left eye, 20/20. Following an examination in 2015, his optometrist stated that Mr. Schoendienst does have sufficient vision to perform the driving tasks required to operate a CMV. Mr. Schoendienst reported that he has driven straight trucks for 6 years, accumulating 165,000 miles. He holds a Class B CDL from Missouri. His driving record for the last 3 years shows no crashes and no convictions for moving violations in a CMV.

Wesley C. Slattery

Mr. Slattery, 49, has had anisotropic amblyopia in his left eye since childhood. The visual acuity in his right eye is 20/20, and in his left eye, 20/100. Following an examination in 2015, his optometrist stated, “I feel he does have sufficient vision to perform all driving tasks required to operate a commercial vehicle.” Mr. Slattery reported that he has driven straight trucks for 37 years, accumulating 259,000 miles, and tractor-trailer combinations for 22 years, accumulating 308,000 miles. He holds an operator's license from Kansas. His driving record for the last 3 years shows no crashes and no convictions for moving violations in a CMV.

James J. Slemmer, Jr.

Mr. Slemmer, 73, has a prosthetic right eye due to a traumatic incident in childhood. The visual acuity in his right eye is no light perception, and in his left eye, 20/20. Following an examination in 2015, his optometrist stated, “I, Lou Mastrian OD, certify that James Slemmer has sufficient vision to perform the driving tasks required to operate a commercial vehicle based on the findings from his examination on May 7, 2015.” Mr. Slemmer reported that he has driven straight trucks for 54 years, accumulating 350,000 miles. He holds a Class A CDL from Pennsylvania. His driving record for the last 3 years shows no crashes and no convictions for moving violations in a CMV.

Jeffrey W. Smith

Mr. Smith, 68, has had Best disease in the macula of his right eye since 2002. The visual acuity in his right eye is 20/100, and in his left eye, 20/25. Following an examination in 2015, his optometrist stated, “It appears to be stable in both eyes at this time. It appears he is doing fine at this time and would be able to drive a commercial vehicle.” Mr. Smith reported that he has driven buses for 5 years, accumulating 12,500 miles. He holds a Class C CDL from North Carolina. His driving record for the last 3 years shows no crashes and no convictions for moving violations in a CMV.

Mark R. Stevens

Mr. Stevens, 56, has aniridia, bullous keratopathy, aphakia, and exotropia in his right eye due to a traumatic incident in childhood. The visual acuity in his right eye is counting fingers, and in his left eye, 20/15. Following an examination in 2015, his ophthalmologist stated, “In my opinion, Mr. Stevens has sufficient visual function to perform the driving tasks required to operate a commercial vehicle.” Mr. Stevens reported that he has driven tractor-trailer combinations for 30 years, accumulating 1.5 million miles. He holds a Class A CDL from Iowa. His driving record for the last 3 years shows no crashes and no convictions for moving violations in a CMV.

Kevin A. Szafranski

Mr. Szafranski, 33, has a retinal detachment in his right eye due to a traumatic incident in childhood. The visual acuity in his right eye is 20/80, and in his left eye, 20/20. Following an examination in 2015, his optometrist stated, “In my medical opinion, Kevin has sufficient vision to perform the driving tasks required to operate a commercial vehicle.” Mr. Szafranski reported that he has driven straight trucks for 3 years, accumulating 31,200 miles. He holds a Class B CDL from North Dakota. His driving record for the last 3 years shows no crashes and no convictions for moving violations in a CMV.

Gerry W. Talbott

Mr. Talbott, 53, has had amblyopia in his left eye since childhood. The visual acuity in his right eye is 20/20, and in his left eye, 20/200. Following an examination in 2015, his ophthalmologist stated, “In my medical opinion, Mr. Talbott has sufficient vision to perform the driving tasks required to operate a commercial vehicle.” Mr. Talbott reported that he has driven straight trucks for 35 years, accumulating 3.5 million miles, and tractor-trailer combinations for 10 years, accumulating 1.25 million miles. He holds a Class AM CDL from Virginia. His driving record for the last 3 years shows no crashes and no convictions for moving violations in a CMV.

Raymond W. Teemer

Mr. Teemer, 31, has hypertropia and exotropia in his left eye due to a traumatic incident in childhood. The visual acuity in his right eye is 20/20, and in his left eye, 20/400. Following an examination in 2015, his ophthalmologist stated, “In summary, this patient is a monocular status patient, and has been operating a commercial vehicle for five years without incident.” Mr. Teemer reported that he has driven straight trucks for 4.5 years, accumulating 42,750 miles. He holds an operator's license from New Jersey. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0070 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0070 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: October 22, 2015.
Larry W. Minor,
Associate Administrator for Policy.

[FR Doc. 2015-27882 Filed 10-30-15; 8:45 am]

BILLING CODE 4910-EX-P